DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (www.treasury.gov/ofac).

Notice of OFAC Actions

On July 2, 2021, OFAC determined that the property and interests in property subject to U.S. jurisdiction of the following persons are blocked under the relevant sanctions authority listed below.

Individuals

1. MOE, Banyar Aung (a.k.a. BANYAR, Aung Moe; a.k.a. MOE, Banya Aung; a.k.a. MOE, Banya Ong; a.k.a. MOE, Banyar Ong; a.k.a. MOE, Nai Banya Aung; a.k.a. MOE, Nai Banya Ong; a.k.a. MOE, Nai Banyar Aung; a.k.a. MOE, Nai Banyar Ong), Naypyitaw, Burma; DOB 14 Aug 1947; POB Ye, Burma; nationality Burma; citizen Burma; Gender Male; National ID No. 10RAMANAN202348 (Burma); alt. National ID No. EYE089248 (Burma); State Administrative Council Member (individual) [BURMA-EO14014].

Designated pursuant to section 1(a)(iii)(B) of Executive Order 14014 of February 10, 2021, “Blocking Property With Respect to the Situation in Burma” (“the Order”) for being or having been a leader or official of the Government of Burma on or after February 2, 2021.

2. NAING, Chit (a.k.a. HLAING, Chit; a.k.a. HLAING, U Chit; a.k.a. NAING, U Chit; a.k.a. NYAR, Sate Pyin), Burma; DOB Dec 1948; POB Kyee Nee Village, Chauk Township, Burma; nationality Burma; citizen Burma; Gender Male; Minister for Information (individual) [BURMA-EO14014].

Designated pursuant to section 1(a)(iii)(B) of the Order for being or having been a leader or official of the Government of Burma on or after February 2, 2021.

3. OO, Aung Naing (a.k.a. OO, U Aung Naing; a.k.a. “KYAW, Kyaw”), L 103 Kanyeikthar Lane 6 FMI City, Rangoon, Burma; DOB 13 Oct 1962; alt. DOB 09 Jun 1969; POB Kyaukse, Burma; alt. POB Hkamti, Burma; nationality Burma; citizen Burma; Gender Male; Passport DM002656 (Burma) issued 25 Aug 2014 expires 24 Aug 2024; National ID No. 7PAKHANAN013345 (Burma); alt. National ID No. 5SAKANAN017289 (Burma); Minister for Investment and Foreign Economic Relations (individual) [BURMA-EO14014].

Designated pursuant to section 1(a)(iii)(B) of the Order for being or having been a leader or official of the Government of Burma on or after February 2, 2021.

4. KYAING, Myint (a.k.a. KYAING, U Myint), Burma; DOB 17 Apr 1957; nationality Burma; citizen Burma; Gender Male; Minister for Labor, Immigration, and Population (individual) [BURMA-EO14014].

Designated pursuant to section 1(a)(iii)(B) of the Order for being or having been a leader or official of the Government of Burma on or after February 2, 2021.

5. KHINE, Thet Thet (a.k.a. KHAING, Thet Thet; a.k.a. KHINE, Daw Thet Thet), 127A Dhamazadei Road, Kamayut, Rangoon, Burma; DOB 19 Aug 1967; POB Mogok, Burma; nationality Burma; citizen Burma; Gender Female; Passport MB132403 (Burma) issued 07 May 2015 expires 06 May 2020; National ID No. 9MAKANAN034200 (Burma); Minister of Social Welfare, Relief, and Resettlement (individual) [BURMA-EO14014].

Designated pursuant to section 1(a)(iii)(B) of the Order for being or having been a leader or official of the Government of Burma on or after February 2, 2021.

6. DANIEL, Saw, Naypyitaw, Burma; DOB 25 Nov 1957; alt. DOB 1968 to 1969; POB Loikaw, Burma; nationality Burma; citizen Burma; Gender Male; State Administrative Council Member (individual) [BURMA-EO14014].

Designated pursuant to section 1(a)(iii)(B) of the Order for being or having been a leader or official of the Government of Burma on or after February 2, 2021.

7. SEIN, Aye Nu (a.k.a. AYE, Nu Sein; a.k.a. SEIN, Daw Aye Nu), Naypyitaw, Burma; DOB 24 Mar 1957; POB Sittwe, Burma; nationality Burma; citizen Burma; Gender Female; State Administrative Council Member (individual) [BURMA-EO14014].

Designated pursuant to section 1(a)(iii)(B) of the Order for being or having been a leader or official of the Government of Burma on or after February 2, 2021.

8. HLA, Kyu Kyu (a.k.a. HLA, Daw Kyu Kyu), Naypyitaw, Burma; DOB 13 Apr 1954; nationality Burma; Gender Female; National ID No. 12SAKANAN020151 (Burma) (individual) [BURMA-EO14014].

Designated pursuant to section 1(a)(v) of the Order for being a spouse or adult child of any person whose property and interests in property are blocked pursuant to the Order.

9. AUNG, Thet Thet (a.k.a. AUNG, Daw Thet Thet), Naypyitaw, Burma; DOB 22 Dec 1961; nationality Burma; Gender Female; National ID No. 9MAHTALAN230610 (Burma) (individual) [BURMA-EO14014].

Designated pursuant to section 1(a)(v) of the Order for being a spouse or adult child of any person whose property and interests in property are blocked pursuant to the Order.

10. AYE, Than Than (a.k.a. AYE, Daw Than Than), Naypyitaw, Burma; DOB 08 Jan 1960; nationality Burma; Gender Female; National ID No. 12LAMANAN089490 (Burma) (individual) [BURMA-EO14014].

Designated pursuant to section 1(a)(v) of the Order for being a spouse or adult child of any person whose property and interests in property are blocked pursuant to the Order.

11. MYINT, Aung Mar (a.k.a. MYINT, Daw Aung Mar), Naypyitaw, Burma; DOB 25 Oct 1964; nationality Burma; Gender Female; National ID No. 12DAGANAN018846 (Burma) (individual) [BURMA-EO14014].

Designated pursuant to section 1(a)(v) of the Order for being a spouse or adult child of any person whose property and interests in property are blocked pursuant to the Order.

12. CHIT, Khaing Pa Pa (a.k.a. CHIT, Daw Kaing Pa Pa), Burma; DOB 15 Jul 1971; nationality Burma; Gender Female; National ID No. 9MAYAMAN018125 (Burma) (individual) [BURMA-EO14014].

Designated pursuant to section 1(a)(v) of the Order for being a spouse or adult child of any person whose property and interests in property are blocked pursuant to the Order.

13. TUN, Moe Htet Htet (a.k.a. TUN, Daw Moe Htet Htet; a.k.a. TUN, Ma Moe Htet Htet), Burma; DOB 16 Aug 1997; nationality Burma; Gender Female; National ID No. 9PAMANAN259747 (Burma) (individual) [BURMA-EO14014].

Designated pursuant to section 1(a)(v) of the Order for being a spouse or adult child of any person whose property and interests in property are blocked pursuant to the Order.

14. MYINT, Khaing Moe (a.k.a. MYINT, Daw Khaing Moe; a.k.a. MYINT, Ma Khaing Moe), Burma; DOB 23 Apr 2001; nationality Burma; Gender Female; National ID No. 9PAMANAN275475 (Burma) (individual) [BURMA-EO14014].

Designated pursuant to section 1(a)(v) of the Order for being a spouse or adult child of any person whose property and interests in property are blocked pursuant to the Order.

15. MYINT, Yadanar Moe (a.k.a. MYINT, Daw Yadanar Moe), Naypyitaw, Burma; DOB 16 May 1994; nationality Burma; Gender Female; National ID No. 9PAMANAN259746 (Burma) (individual) [BURMA-EO14014].

Designated pursuant to section 1(a)(v) of the Order for being a spouse or adult child of any person whose property and interests in property are blocked pursuant to the Order.

16. NILAR, Daw, Burma; DOB 03 May 1968; nationality Burma; Gender Female; National ID No. 12AHLANAN026686 (Burma) (individual) [BURMA-EO14014].

Designated pursuant to section 1(a)(v) of the Order for being a spouse or adult child of any person whose property and interests in property are blocked pursuant to the Order.

17. YE, Theit Thinzar (a.k.a. YE, Daw Theit Thinzar), Burma; DOB 07 May 1997; nationality Burma; Gender Female; National ID No. 12AHLANAN048417 (Burma) (individual) [BURMA-EO14014].

Designated pursuant to section 1(a)(v) of the Order for being a spouse or adult child of any person whose property and interests in property are blocked pursuant to the Order.

18. MYINT, Ohn Mar (a.k.a. MYINT, Daw Ohn Mar; a.k.a. MYINT, Daw Ohnmar), Burma; DOB 19 Nov 1967; nationality Burma; Gender Female; National ID No. 10THAHTANAN013008 (Burma) (individual) [BURMA-EO14014].

Designated pursuant to section 1(a)(v) of the Order for being a spouse or adult child of any person whose property and interests in property are blocked pursuant to the Order.

19. AUNG, Shwe Ye Phu (a.k.a. AUNG, Daw Shwe Ye Phu), Burma; DOB 18 Apr 1990; nationality Burma; Gender Female; National ID No. 9PAOULAN025761 (Burma) (individual) [BURMA-EO14014].

Designated pursuant to section 1(a)(v) of the Order for being a spouse or adult child of any person whose property and interests in property are blocked pursuant to the Order.

20. AUNG, Hlaing Bwar (a.k.a. AUNG, U Hlaing Bwar), Burma; DOB 22 May 1993; nationality Burma; Gender Male; National ID No. 9PAOULAN025759 (Burma) (individual) [BURMA-EO14014].

Designated pursuant to section 1(a)(v) of the Order for being a spouse or adult child of any person whose property and interests in property are blocked pursuant to the Order.

21. AUNG, Phyo Arkar (a.k.a. AUNG, U Phyo Akar), Burma; DOB 30 Apr 1995; nationality Burma; Gender Male; National ID No. 9PAOULAN013500 (Burma) (individual) [BURMA-EO14014].

Designated pursuant to section 1(a)(v) of the Order for being a spouse or adult child of any person whose property and interests in property are blocked pursuant to the Order.

22. NWE, Than Than (a.k.a. NEW, Daw Than Than), Naypyitaw, Burma; DOB 26 Feb 1954; nationality Burma; Gender Female; National ID No. 9MAYAMAN007349 (Burma) (individual) [BURMA-EO14014].

Designated pursuant to section 1(a)(v) of the Order for being a spouse or adult child of any person whose property and interests in property are blocked pursuant to the Order.

Dated: July 2, 2021.
Bradley T. Smith,
Acting Director, Office of Foreign Assets Control, U.S. Department of the Treasury.

[FR Doc. 2021-14547 Filed 7-7-21; 8:45 am]

BILLING CODE 4810-AL-P